DEPARTMENT OF LABOR

Mine Safety and Health Administration

Petitions for Modification of Application of Existing Mandatory Safety Standards

AGENCY: Mine Safety and Health Administration, Labor.

ACTION: Notice.

SUMMARY: This notice is a summary of petitions for modification submitted to the Mine Safety and Health Administration (MSHA) by the parties listed below.

DATES: All comments on the petitions must be received by MSHA's Office of Standards, Regulations, and Variances on or before November 27, 2017.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect copies of the petition and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2017-018-C.

Petitioner: Revelation Energy, LLC, P.O. Box 249, Stanville, Kentucky 41659.

Mine: D-1A Garmeada Mine, MSHA I.D. No. 15-19791, located in Bell County, Kentucky.

Regulation Affected: 30 CFR 75.364(b)(2) (Weekly examination).

Modification Request: The petitioner requests a modification of the existing standard in reference to weekly examinations in its entirety for the hazardous condition of return air course. The petitioner states that:

(1) As a result of a dip with a steep incline on the end, a large pool of water has developed at the outby end of the Northwest Mains and extending inby approximately 1200 feet in the right-side return, in the No. 5 entry. This mine utilizes split air and there are two returns. There is a return entry in the No. 1 entry also. Currently, a 10-horse-power pump with a 2-inch discharge line is installed in the pool of water. This is a low spot in the mine with elevations rising going in each direction. The mine height in this area is approximately 12 feet. The water level is currently 4½ feet deep. The water has been pumped down to current levels, reducing the affected area to approximately 70 feet in length. It is proposed to utilize a metal catwalk bridge, with handrails to provide safe travel through this area for the weekly examinations. The bridge would provide safer travel through the area, as the bridge is level. If the water is completely pumped out, it would result in a steep, slippery slope that would be treacherous to travel and could contribute to slip, trip, and fall hazards. It would be difficult to establish and maintain safe travel in this portion of the right return, No. 5 entry.

(2) The remaining life of the reserve is approximately 10 years. Access to this reserve is only possible through the existing mine drifts, as all other approaches are blocked by abandoned mines. The procedures listed in this petition will provide a level of safety no less than equivalent to that afforded by 30 CFR 75.364(b)(2) for the remaining life of the mine.

(3) Therefore, the petitioner proposes an alternate plan to provide safe access over pooled water in the right return, No. 5 entry for approximately 70 feet at the outby end of the Northwest Mains. The petitioner states that use of the bridge as described below will keep employees from being exposed to hazardous travel in order to meet the requirements of the applicable standard:

(a) A metal catwalk bridge approximately 75 feet long with handrails will be utilized to provide safe access for travel across a pool of water.

(b) Each end of the bridge across the entry will be blocked with danger signs, flagging, and/or fencing to warn miners of the potential hazard and that travel through this area is only permitted across the bridge.

(c) A pump will be maintained in the pool to maintain the water level.

(d) Life vests will be provided and worn while traveling across the bridge.

(e) All miners at the D-1A Garmeada mine will be given notice of this request for modification during safety meetings.

Within 60 days after approval of this petition and the order becoming final, the petitioner will submit proposed revisions to the Part 48 training plan to the District Manager. These revisions will apply to initial and refresher training.

The petitioner asserts that the proposed alternative method will at all times guarantee no less than the same measure of protection afforded by the existing standard.

Docket Number: M-2017-019-C.

Petitioner: Marfork Coal Company, Inc., 500 Lee Street, East, Suite 701 (25301), Post Office Box 2548, Charleston, WV 25329.

Mine: Slip Ridge Cedar Grove Mine, MSHA I.D. No. 46-09048, located in Raleigh County, West Virginia.

Regulation Affected: 30 CFR 75.360 (Preshift examination at fixed intervals).

Modification Request: The petitioner requests a modification of the existing standard as it pertains to preshift examinations that are only required on a side of the mine that is active (i.e. both sides of the mine only have to be fully examined when both sides are active). The petitioner states that:

(1) The Slip Ridge mine is a large underground coal mine that has been permanently divided into three separate areas via the installation of MSHA-approved 120 PSI mine seals.

(2) On the East end of the mine is the Ellis Creek Side and this is the active mining side with two continuous miner sections producing 5 to 6 days a week.

(3) The West end of the mine is called the Slip Ridge Transfer and this end of the mine serves only as a belt through (i.e. transfer) for coal from two other Marfork mines (Horse Creek and Allen Powellton) on its way to the Marfork Plant.

(4) The East and West ends of the mine are separated by approximately 3.66 miles of old mine works that were sealed on each end with MSHA-approved 120 PSI seals.

(5) The East and West ends of the mine are ventilated by separate mine fans.

(6) The East and West ends of the mine are monitored by separate CO systems.

(7) The East and West ends of the mine have their own dispatcher.

(8) Other than being on the opposite ends of a common sealed area, the East and West ends of the mine are effectively separate and independent underground coal mines.

(9) Currently, if the East side of the mine is scheduled to produce coal, the regulations require preshift examinations in accordance with 30 CFR 75.360 be completed on both sides of the mine, regardless of their autonomy.

(10) Application of the existing standard may result in a diminution of safety to the miners as it currently requires that preshift examination on both the East and West ends of the mine be performed on any day that either end of the mine will be active (i.e. the West end has to be fully examined preshift every day that the East end wants to produce coal even if the West end is idle). Preshift examination of the idle side of the Slip Ridge Mine does not advance safety for the miners working on the active side of the mine and can expose examiners on the idle side to additional time and hazards underground.

The petitioner proposes the following alternative method of compliance to the existing standard:

(a) Since the East and West side are separated by two sets of 120 PSI seals, ventilated with their own mine fans and monitored by independent CO systems, each end of the mine should be treated separately for purposes of 30 CFR 75.360.

(b) On any active side of the Slip Ridge Mine, a preshift examination as set forth in 30 CFR 75.360 will be performed.

(b) No preshift examination under 30 CFR 75.360 will be required on an idle side of the mine.

(c) Preshift examinations of the idle side of the mine will be performed prior to work being performed underground on the previously idle side of the mine.

(d) Marfork will update the CO monitoring systems to allow either side of the dispatcher to monitor the CO systems for both sides of the mine. This dual monitoring will allow the atmospheric conditions in the idle side of the mine to be monitored by the dispatcher on the active side of the mine.

(e) If a CO event occurs that would otherwise require evacuation, both sides will withdraw personnel.

(f) Marfork will set up dual monitoring of both mine fans so that the status of each fan can be monitored from both sides of the mine.

(g) In the event of a fan stoppage on one side of the mine, both sides will withdraw personnel.

(h) In the event of a fan stoppage on an idle side of the mine, the active side would be alerted via an alarm and personnel will be withdrawn from the active side.

The petitioner asserts that the proposed alternative method will at all times guarantee no less than the same measure of protection afforded by the existing standard by ensuring that the examinations are performed on the active side of the mine while continually monitoring the fan and CO systems on the idle side of the mine.

Docket Number: M-2017-020-C.

Petitioner: Spartan Mining Company, 500 Lee Street, East, Suite 701 (25301), Post Office Box 2548, Charleston, WV 25329.

Mine: Road Fork #52 Mine, MSHA I.D. No. 46-09522, located in Wyoming County, West Virginia.

Regulation Affected: 30 CFR 75.1700 (Oil and gas wells).

Modification Request: The petitioner requests a modification of the existing standard in the following three situations: (1) When mining within 50 feet (+1-degree accuracy factor) of a horizontal wellbore; (2) when initially mining through a horizontal wellbore; and (3) when subsequently mining through horizontal wellbores as addressed in this petition. The petitioner states that:

(1) Potential in-seam methane in the majority of the Road Fork #52 Mine reserve area has been reduced and/or extracted by the drilling operation of horizontal coalbed methane wells by CDX Gas, LLC (“CDX”). The first well in the area was put into production in January 2006 and the last in October 2006. The location of these wells in relation to the future mining for the Road Fork #52 Mine is shown on the map attached to this petition as Exhibit A. (Road Fork #52 Mine will mine coal to the left of the mining shown on the map).

(2) CDX will use the following methodology to drill these wells:

(a) A vertical wellbore (access hole) is drilled and cased to a point 150 feet or more above the coal seal;

(b) From the bottom of the casing in the access hole, a curved hole is drilled to intersect the coal seal at a tangent point;

(c) From the tangent point, a short common horizontal bore is drilled horizontally through the coal seam for a distance up to 500 feet;

(d) From the end of the common horizontal bore, several interconnected horizontal bores, ranging from 5 to 6.5 inches in diameter are drilled horizontally through the coalbed for distances up to 3500 feet;

(e) A second vertical wellbore (production hole) is drilled to intersect the common horizontal bore. The production hole is commonly cased with 7-inch O.D. casing to a point 100 feet more or less above the coal seam. The production hole is drilled 50 to 100 feet below the coal seam to provide a “rat-hole” for pumping liquid from the well; and

(f) Coal bed methane gas entering the horizontal wellbores travels through the common horizontal bore to the production hole and then to the surface.

(3) The Road Fork #52 Mine will employ the continuous mining room and pillar method of mining. It is anticipated that each lateral wellbore will be mined through at least once.

(4) Prior to mining within 50 feet (+1-degree accuracy factor) of a horizontal wellbore, the petitioner proposes to verify that the following procedures have been performed on the well:

(a) The well will be vented to outside atmosphere pressure for at least 8 hours;

(b) A volume of fresh water sufficient to fill the horizontal (lateral) wellbores will be injected into the well with sufficient pressure to attain a bottomhole pressure of approximately 500 pounds per square inch (PSI);

(c) The liquid will be bailed from the production hole, using normal bailing equipment, to a point just above the level of the coal seam;

(d) A volume of gel, made up of 2 to 4 percent bentonite and fresh water, sufficient to fill the horizontal wellbores plus 25 percent excess, will be injected into the well with sufficient pressure to attain a bottomhole pressure of approximately 500 PSI; and

(e) The wellbore will be filled to the surface with fresh water and allowed to stand for at least 72 hours, with the water level being supplemented as required. In the alternative, water will be injected into the wellbore for 72 hours at an average rate of 2 gallons per minute or more.

(5) Prior to mining through the first lateral wellbore of a horizontal coalbed methane well, the petitioner proposes to verify that the following procedures have been performed on the well:

(a) The water will be bailed from the vertical section of the wellbore, as close to the coal seam elevation as practical using normal bailing equipment;

(b) The surface wellhead will be maintained open to bring the vertical section of the wellbore to outside atmospheric pressure;

(c) The petitioner further states that the MSHA District Manager and the appropriate West Virginia Office of Miners' Health Safety and Training representative will be notified at least 48 hours prior to the anticipated mine-through time;

(d) Drivage sights will be installed within 80 feet of the mine-through point;

(e) Firefighting equipment will be provided near the working face, including two 10-pound fire extinguishers, 240 pounds of rock dust, and fire hose of sufficient length to reach the working face and capable of delivering at least 50 gallons per minute of water at minimum pressure of 50 PSI;

(f) At least 9,000 CFM of intake air at the face will be supplied, but no less than the amount in the approved ventilation plan;

(g) The continuous miner methane monitor will be calibrated prior to use when the mine-through is anticipated or is occurring;

(h) A test for methane will be conducted with a hand-held methane detector at least every 10 minutes during the time mining commences at the minimum barrier distance line or within 30 feet of the wellbore, whichever is greater;

(i) All equipment will be deenergized and the area thoroughly examined when the wellbore is intersected;

(j) Once the area has been determined to be safe and mining has resumed, hand-held methane detector tests will continue at least every 10 minutes during production shifts, until mining has progressed 20 feet past the initial mine-through point;

(k) No persons will be permitted in the area of the mine-through operation except those persons actually engaged in the operation, including mine management, personnel from MSHA, and personnel from the appropriate State agency; and

(l) A certified official will directly supervise the mine-through operation and only the certified official in charge will issue instructions concerning the mine-through operation.

(6) Prior to mining through a lateral wellbore of a coalbed methane well which has already at least one lateral wellbore mined through, the petitioner proposes to verify the following procedures have been performed on the well:

(a) The water will be bailed from the vertical section of the wellbore, as close to the coal seam elevation as practical using normal bailing equipment;

(b) The surface well head will be maintained open to bring the vertical section of the wellbore to outside atmospheric pressure;

(c) Drivage sights will be installed within 80 feet of the mine-through point;

(d) Firefighting equipment will be provided near the working face, including two 10-pound fire extinguishers, 240 pounds of rock dust, and fire hose of sufficient length to reach the working face and capable of delivering at least 50 gallons per minute of water at minimum pressure of 50 PSI;

(e) At least 9,000 CFM of intake air at the face will be supplied, but no less than the amount in the approved ventilation plan;

(f) The continuous miner methane monitor will be calibrated on one of the five production shifts prior to the shift during which the mine-through is anticipated;

(g) A test for methane will be provided with a hand-held methane detector at least every 10 minutes during the time mining is conducted within 30 feet of the wellbore;

(h) All equipment will be deenergized and the area thoroughly examined when the wellbore is intersected;

(i) Once the area has been determined to be safe and mining has resumed, hand-held methane detector tests will continue at lease every 10 minutes during production shifts, until mining has progressed 20 feet past the initial mine-through point;

(j) No persons will be permitted in the area of the mine-through operation except those persons actually engaged in the operation, including mine management, personnel from MSHA, and personnel from the appropriate State agency;

(k) A certified official will directly supervise the mine-through operation and only the certified official in charge will issue instructions concerning the mine-through operation; and

(l) The production hole will remain open and accessible until all mining susceptible of intersecting horizontal wellbores has been completed.

The petitioner asserts that the proposed alternative method will at all times guarantee no less than the same measure of protection afforded by the existing standard.

Sheila McConnell,
Director, Office of Standards, Regulations, and Variances.

[FR Doc. 2017-23263 Filed 10-25-17; 8:45 am]

BILLING CODE 4520-43-P